DEPARTMENT OF STATE

[Public Notice 6911]

Bureau of Educational and Cultural Affairs (ECA) Request for Grant Proposals (RFGP): One-time Competitive Grants Program—Competition A—Academic Programs

Announcement Type: New Grant

Funding Opportunity Number: ECA/A-10-One-time-Comp-A

Catalog of Federal Domestic Assistance Number: 19.014

Key Dates:

Application Deadline: April 12, 2010

Executive Summary: This competition is one of two competitions that the Bureau of Educational and Cultural Affairs is conducting in accordance with the Conference Report (House Report 111-366) accompanying the Consolidated Appropriations Act, 2010 (Pub. L. 111-117) under Division F of the Department of State, Foreign Operations and Related Programs Appropriation Act 2010, “Educational and Cultural Exchange Programs” in support of an $8 million “One-Time Competitive Grants Program.” All applications must be submitted by public or private non-profit organizations, meeting the provisions described in Internal Revenue code section 26 U.S.C. 501(c)(3). Total funding for this “One-Time Competitive Grants Program” is $8 million. Four million dollars will be dedicated to Competition A—Academic Programs One-time Grants Program—reference number ECA/A-10-One-time-Comp-A, and $4 million will be dedicated to and announced simultaneously in a separate RFGP Competition B—Professional, Cultural and Youth One-time Grants Program—reference number ECA/PE/C-10-One-time-Comp-B. Please note: The Bureau reserves the right to reallocate funds it has initially allocated to each of these two competitions, based upon factors such as the number of applications received and responsiveness to the review criteria outlined in each of the solicitations.

Applicants may submit only one proposal (total) to one of the two competitions referenced above. In addition, applicants under this competition (ECA/A-10-One-time-Comp-A) may apply to administer only one of the listed activities (total). If multiple proposals are received from the same applicant, all submissions will be declared technically ineligible and will be given no further consideration in the review process. Eligible applicants are strongly encouraged to read both RFGPs thoroughly, prior to developing and submitting proposals, to ensure that proposed activities are appropriate and responsive to the goals, objectives and criteria outlined in the solicitations.

As further directed by the Congress, “The program shall be only for the actual exchange of people and should benefit a population that is not being addressed through existing authorized exchanges.”

The Bureau of Educational and Cultural Affairs announces a competition for grants that support international exchanges in order to increase mutual understanding and build relationships, through individuals and organizations, between the people of the United States and their counterparts in other countries. The Bureau welcomes proposals from organizations that have not received a previous grant from the Bureau as well as from those which have; see eligibility information below and in section III.

I. Funding Opportunity Description

Authority

Overall grant making authority for this program is contained in the Mutual Educational and Cultural Exchange Act of 1961, Public Law 87-256, as amended, also known as the Fulbright-Hays Act. The purpose of the Act is “to enable the Government of the United States to increase mutual understanding between the people of the United States and the people of other countries * * *; to strengthen the ties which unite us with other nations by demonstrating the educational and cultural interests, developments, and achievements of the people of the United States and other nations * * * and thus to assist in the development of friendly, sympathetic and peaceful relations between the United States and the other countries of the world.” The funding authority for the program above is provided through legislation.

Background

The Conference Agreement (House Report 111-366) accompanying the Consolidated Appropriations Act, 2010 (Pub. L. 111-117) under Division F of the Department of State, Foreign Operations and Related Programs Appropriation Act 2010, “Educational and Cultural Exchange Programs” provides support for an $8 million One-Time Competitive Grants Program. “The conferees also endorse language in the House and Senate Reports regarding this competitively awarded grants program.”

As referenced in the Senate Report 111-44, “* * * an exchange program that received a one-time grant in a previous year is ineligible for additional one-time funding, but the Committee encourages the Department to consider new proposals from previously funded grantees within discretionary funding if they meet appropriate guidelines.” Please see eligibility information below and in section III.

Programs shall support the actual exchange of people and should benefit a population that is not being addressed through existing authorized exchanges, such as exchanges with developing countries which target community leaders, students and youth with high financial need and minority and ethnic groups.

Grants shall address issues of mutual interest to the United States and other countries, consistent with the program criteria established in Public Law 110-161.

Purpose

The Office of Academic Programs will accept proposals for the following one-time special initiatives. For each of the activities listed below, the Bureau will emphasize engaging participants from selected geographic regions. Further details on specific program responsibilities are included in the Program Objectives, Goals, and Implementation (POGI) document for this initiative. Interested organizations should read the entire Federal Register announcement for all information prior to preparing proposals. Please refer to the solicitation package for further instructions.

1. Intensive English Language Program:

The U.S. Department of State is dedicated to increasing its engagement with undergraduate students worldwide who demonstrate the potential to become leaders and who represent indigenous, disadvantaged or underrepresented communities. ECA offers exchange programs that increase knowledge and understanding of the United States to undergraduates from underserved sectors of society. The Intensive English Program will enroll foreign undergraduate students in eight-to-ten weeks of intensive English language courses at colleges and universities in the United States, and provide them with an introduction to American institutions, society and culture. To support English acquisition, while in the U.S., participants will complete community service activities and have the opportunity to develop a project related to community service or volunteerism focused on topics such as the environment, public health, clean/renewable energy, conservation, or related fields. The project would be implemented upon the participant's return to their home countries.

A total of three grants will be awarded for the administration of the Intensive English Language Program. ECA expects to fund approximately 120 students. Participants will be selected by U.S. Embassies or Fulbright Commissions in participating countries. Regions of emphasis: Middle East/North Africa, Sub-Saharan Africa, South and Central America (including the Caribbean), South/Central Asia, and East Asia/Pacific.

Applicant organizations may be U.S. colleges and universities, consortia of U.S. colleges and universities, or non-governmental organizations meeting the provisions described in Internal Revenue code section 26 U.S.C. 501(c)(3). An individual university applying for the award will develop and administer the program and act as the host institution for all participants. A consortium applying for the award must identify a lead institution to receive and administer the award, but may place the participants at one or more of the consortium institutions.

Purpose: The Intensive English Language Program will provide promising undergraduate students from underserved sectors, who would not otherwise qualify for U.S. exchange opportunities based on English language ability, an opportunity to increase their English language skills through a substantive U.S. academic exchange experience. This program will make participants more competitive in applications for other U.S. government-sponsored exchanges in the future or for future graduate admission to U.S. institutions.

Program Design: Programs should have a duration of eight-to-ten weeks. ECA anticipates supporting approximately 120 participants, who may be divided into several cohorts of students. Programs should provide participants with intensive English language training, including English for Academic Purposes, as well as the development of general reading, writing, speaking and listening skills, and the testing of those skills. For planning purposes, interested applicants should anticipate that programs will take place from May-September 2011.

Student participants will be undergraduates and will be recruited and selected by the U.S. Embassy Public Affairs Sections or Fulbright Commissions in the students' home countries. ECA will approve nominations and make final selection. Participants will come from non-elite backgrounds, from both rural and urban sectors, and with little to no prior experience in the United States or elsewhere outside of their home country. Participants will exhibit academic ability and leadership potential including an interest in community service.

It is anticipated that the selection of participants will reflect each region's geographic, institutional, ethnic, and gender diversity. Most of the students selected will have a basic knowledge of the English language through formal study.

For applicants representing a consortium of colleges or universities, the proposal should indicate the lead institution and produce letters of support from all institutions or organizations that will carry out activities as part of the consortium. In identifying the participating host institutions, the proposal should make clear why these institutions have been recommended, and how those institutions will specifically meet the purposes outlined above.

Applicants should design a program that will offer an academic residency component of eight-to-ten weeks, the central element of which is an intensive English language training course (English for Academic Purposes), together with other instructional elements that will develop participants' general reading, writing, speaking and listening skills. It is essential that participants be placed in classes with students from a variety of language backgrounds and not only in courses that contain only speakers of their native language. Provisions should also be made for testing those skills.

The program should also provide opportunities for participants to regularly meet with U.S. citizens from a variety of backgrounds, meet with American students, and to speak to appropriate students and civic groups about their experiences and life in their home countries. Programs must include a community service component, in which the students experience firsthand the role of volunteerism and social entrepreneurship in American civil society (please see POGI for details).

Participants for this program will come from the following regions: Middle East/North Africa, Sub-Saharan Africa, South and Central America (including the Caribbean), South/Central Asia, and East Asia/Pacific. Proposals from applicant organizations should indicate if they wish to host participants from one particular region or multiple regions. A pedagogical rationale for the program plan should demonstrate knowledge of the region or multiple regions indicated in the proposal.

ECA reserves the right to adjust the regional composition of student cohorts according to Bureau or program priorities. Participating countries within regions will be determined by ECA, in consultation with Public Affairs Sections at U.S. embassies abroad. International travel will be arranged by ECA and therefore should not be included in budget requests.

Please see the POGI document for detailed budget information. It is anticipated that the total amount of funding for administrative and program costs will be approximately $1.2 million. The total funding for this project will be approximately $1.5 million. ECA anticipates withholding approximately $300,000 for the purchase of participants' airline tickets and in-transit expenses. The funding levels for Award Average and Ceiling of Award do not include funding for travel which is to be provided by ECA.

Number of Awards: 3.

Award Average: $400,000.

Ceiling of Award: $400,000.

Contact: Vincent Pickett, PickettVS@state.gov, 202-632-3243.

2. Capacity Building for Undergraduate Study Abroad: Overall Purpose: To build the capacity of U.S. institutions of higher education and of potential host institutions abroad to provide study abroad opportunities for U.S. undergraduate students. A proposal may be submitted by an accredited college or university or by another public or private non-profit organization meeting the provisions described in Internal Revenue code section 26 U.S.C. 501(c)(3).

Program Design: Proposals must address one of three program goals and should specify the goal to be pursued:

(a) U.S. institutions with substantial experience providing study abroad opportunities may partner with international counterparts with limited experience receiving U.S. students in order to expand the capacity of the foreign partner to host U.S. students, particularly in locations that have been underserved by traditional study abroad programs.

(b) U.S. institutions with substantial experience providing study abroad opportunities may cooperate with less experienced U.S. partner colleges and universities to enable the less experienced institutions to develop programs with international counterparts or build their study abroad offices through professional visits of administrators, faculty and/or students.

(c) U.S. institutions with limited experience administering study abroad programs may seek to strengthen their study abroad offices or expand their capacity to administer such programs. Proposals submitted in this category should not exceed $60,000.

In each category, awards will support projects that result in increased and broadened opportunities for U.S. undergraduate students to study abroad in quality academic programs that form an integral part of degree-granting programs at accredited U.S. educational institutions at the tertiary level. The Bureau strongly encourages applications focusing on non-traditional study abroad students, non-traditional study abroad destinations and non-traditional fields of study abroad, including science; technology; engineering; mathematics; education; and critical languages (Arabic, Azerbaijani, Bengali, Brazilian Portuguese, Chinese, Dari, Farsi, Hindi, Kazakh, Korean, Kurdish, Kyrgyz, Nepali, Pashto, Punjabi, Russian, Swahili, Tajik, Turkish, Turkmen, Urdu and Uzbek).

Regions of Emphasis: Europe/Eurasia (Turkey and Russia only), North Africa and the Middle East, South Asia and East Asia, South and Central America (including the Caribbean), Sub-Saharan Africa.

The Bureau anticipates funding approximately ten projects at levels averaging $250,000 and not to exceed approximately $500,000 with total Bureau funding not to exceed $2,500,000. Applicants that do not have four years of experience conducting international exchange programs will be limited to $60,000 per item (a) under section III.3. below. Proposals for smaller amounts will be considered.

Approximate Number of Awards: 10.

Approximate Average Award: $250,000.

Ceiling of Award Range: $500,000.

Contact: Bahareh Moradi (MoradiBX@state.gov), 202-632-6350; or Carina Klein (KleinCD@state.gov), 202-632-9460.

II. Award Information

Type of Award: Grant Agreement.

Fiscal Year Funds: FY-2010.

Approximate Total Funding: $4 million.

Approximate Number of Awards: 13.

Approximate Average Award: $307,692.

Floor of Award Range: Depending upon an organization's length of experience in conducting international exchanges, and proposed activities, grants could be awarded for less than $60,000. See section III.3.a, below.

Ceiling of Award Range: Up to $500,000.

Anticipated Award Date: August 2010.

Anticipated Project Completion Date: Approximately 24-36 months after the start date of the grant.

Additional Information: As stipulated in the legislation, this is a competitive one-time grants program.

III. Eligibility Information

III.1. Eligible applicants

Applications must be submitted by public and private non-profit organizations meeting the provisions described in Internal Revenue Code section 26 U.S.C. 501(c)(3).

Organizations listed in the House Report 111-187 and the Senate Report 111-44 under “Educational and Cultural Exchange Programs” are encouraged to apply.

Per Senate Report 111-44, “The Committee notes that an exchange program that received a one-time grant in a previous year is ineligible for additional one-time funding, but the Committee encourages the Department to consider new proposals from previously funded grantees within discretionary funding if they meet appropriate guidelines.” Please see section III.3. Other Eligibility Requirements, below.

III.2. Cost Sharing or Matching Funds

There is no minimum or maximum percentage required for this competition. However, the Bureau encourages applicants to provide the highest possible levels of cost sharing and funding in support of its projects, noting that cost sharing is one of the criteria for reviewing proposals.

When cost sharing is offered, it is understood and agreed that the applicant must provide the amount of cost sharing as stipulated in its proposal and later included in an approved grant agreement. Cost sharing may be in the form of allowable direct or indirect costs. For accountability, written records must be maintained to support all costs which are claimed as contributions, as well as costs to be paid by the Federal government. Such records are subject to audit. The basis for determining the value of cash and in-kind contributions must be in accordance with OMB Circular A-110, (Revised), Subpart C.23—Cost Sharing and Matching. In the event that the minimum amount of cost sharing is not provided as stipulated in the approved budget, ECA's contribution will be reduced in like proportion.

III.3. Other Eligibility Requirements

(a) Grants awarded to eligible organizations with less than four years of experience in conducting international exchange programs will be limited to $60,000. Therefore, applicants should explain, with examples, their experience in conducting international exchanges, and, if that experience is less than four years, should limit their proposed grant budgets to $60,000.

(b) Technical Eligibility: All proposals must comply with the following:

—Eligible applicants may submit only one proposal (total) for one of the two competitions referenced in the Executive Summary Section of this document. If multiple proposals are received from the same applicant, all submissions from that applicant will be declared technically ineligible and will be given no further consideration in the review process. In addition, applicants under this competition (ECA/PE/C-10-One-time-Comp-B or ECA/A-10-One-time-Comp-A) may only apply to administer one of the listed activities (total).

—Proposals requesting funding for infrastructure development activities, sometimes referred to as “bricks and mortar support,” are not eligible for consideration under this competition and will be declared technically ineligible and will receive no further consideration in the review process.

—No funding is available exclusively to send U.S. citizens to conferences or conference-type seminars overseas; nor is funding available for bringing foreign nationals to conferences or to standard professional association meetings in the United States.

—An exchange program/activity that was funded under one-time grant competitions in previous years, (FY-2008 Competitive One-time Grants Program—Reference numbers: ECA/A-08-One-time-Comp-A or ECA/PE/C-08-One-time-Comp-B; or the FY-2009 Competitive One-time Grants Program—Reference numbers: ECA/A-09-One-time-Comp-A or ECA/PE/C-09-One-time-Comp-B) is ineligible for additional one-time funding under this competition. However, “previously funded grantees” under previous one-time competitions, referenced above, may submit proposals under this competition, if the proposal is for a new exchange program. Applications submitted by prior-year one-time grant recipients must include in their proposal narrative/submission a narrative description of the specific elements that make their submission under the FY-2010 one-time competition a new exchange program, rather than a repetition or extension of what was funded by ECA under a prior year award. Elements that would contribute to the program's being considered “new” for the purposes of this competition would include: New overseas partner institution(s), a new country and/or world region of activity, a substantially different thematic topic, a new participant profile. Final determination of a proposal's eligibility as a “new” activity will be made by the Bureau of Educational and Cultural Affairs. If the application does not include a narrative explaining how the project qualifies as “new,” it will be declared technically ineligible and will receive no further consideration in the review process.

Please refer to the Proposal Submission Instructions (PSI) document for additional requirements.

IV. Application and Submission Information

Note: Please read the complete announcement before sending inquiries or submitting proposals. Once the RFGP deadline has passed, Bureau staff may not discuss this competition with applicants until the proposal review process has been completed.

IV.1. Contact Information To Request an Application Package

Please contact the Office of Academic Exchanges, ECA/A/E, SA-5, 4th floor, U.S. Department of State, 2200 C Street, NW., Washington, DC 20522-0504, tel: 202-632-3238 and fax: 202-632-6490, PickettVS@state.gov to request a Solicitation Package. Please refer to Funding Opportunity Number ECA/A-10-One-time-Comp-A also located at the top of this announcement when making your request.

The Solicitation Package contains the Proposal Submission Instructions (PSI) document which consists of required application forms, and standard guidelines for proposal preparation.

Please specify Program Officer Vincent Pickett, and refer to the Funding Opportunity Number ECA/A-10-One-time-Comp-A located at the top of this announcement on all other inquiries and correspondence.

IV.2. To Download a Solicitation Package Via Internet

The entire Solicitation Package may be downloaded from the Bureau's Web site at http://exchanges.state.gov/education/rfgps/menu.htm, or the grants.gov Web site. Please read all information before downloading.

IV.3. Content and Form of Submission

Applicants must follow all instructions in the Solicitation Package. The original and seven copies of the application should be sent per the instructions under IV.3e. “Submission Dates and Times” section below.

IV.3a. You are required to have a Dun and Bradstreet Data Universal Numbering System (DUNS) number to apply for a grant or cooperative agreement from the U.S. Government. This number is a nine-digit identification number, which uniquely identifies business entities. Obtaining a DUNS number is easy and there is no charge. To obtain a DUNS number, access http://www.dunandbradstreet.com or call 1-866-705-5711. Please ensure that your DUNS number is included in the appropriate box of the SF-424 which is part of the formal application package.

IV.3b. All proposals must contain an executive summary, proposal narrative and budget. The summary and narrative must be presented in double-spaced typing.

IV.3c. You must have nonprofit status with the IRS at the time of application. Please note: Effective January 7, 2009, all applicants for ECA federal assistance awards must include in their application the names of directors and/or senior executives (current officers, trustees, and key employees, regardless of amount of compensation). In fulfilling this requirement, applicants must submit information in one of the following ways:

(1) Those who file Internal Revenue Service Form 990, “Return of Organization Exempt From Income Tax,” must include a copy of relevant portions of this form.

(2) Those who do not file IRS Form 990 must submit information above in the format of their choice.

In addition to final project reporting requirements, award recipients will also be required to submit a one-page document, derived from their project reports, listing and describing their grant activities. For award recipients, the names of directors and/or senior executives (current officers, trustees, and key employees), as well as the one-page description of grant activities, will be transmitted by the State Department to OMB, along with other information required by the Federal Funding Accountability and Transparency Act (FFATA), and will be made available to the public by the Office of Management and Budget on its USASpending.gov Web site as part of ECA's FFATA reporting requirements.

Please Note: If your organization is a private nonprofit which has not received a grant or cooperative agreement from ECA in the past three years, or if your organization received nonprofit status from the IRS within the past four years, you must submit the necessary documentation to verify nonprofit status as directed in the PSI document. Failure to do so will cause your proposal to be declared technically ineligible.

IV.3d. Please take into consideration the following information when preparing your proposal narrative:

IV.3d.1 Adherence to All Regulations Governing the J Visa

The Bureau of Educational and Cultural Affairs places critically important emphases on the security and proper administration of the Exchange Visitor (J visa) Programs and adherence by award recipients and sponsors to all regulations governing the J visa. Therefore, proposals should demonstrate the applicant's capacity to meet all requirements governing the administration of the Exchange Visitor Programs as set forth in 22 CFR 62, including the oversight of Responsible Officers and Alternate Responsible Officers, screening and selection of program participants, provision of pre-arrival information and orientation to participants, monitoring of participants, proper maintenance and security of forms, recordkeeping, reporting and other requirements.

For the Intensive English Language Program, ECA will be responsible for issuing DS-2019 forms to participants in this program. For the Capacity Building for Undergraduate Study Abroad, the recipient will be responsible for issuing DS-2019 forms to participants in this program.

A copy of the complete regulations governing the administration of Exchange Visitor (J) programs is available at http://exchanges.state.gov or from: United States Department of State, Office of Exchange Coordination and Designation, Office of Designation, ECA/EC/D, SA-5, Floor C2, Department of State, Washington, DC 20522-0582.

Please refer to Solicitation Package for further information.

IV.3d.2 Diversity, Freedom and Democracy Guidelines

Pursuant to the Bureau's authorizing legislation, projects must maintain a non-political character and should be balanced and representative of the diversity of American political, social, and cultural life. “Diversity” should be interpreted in the broadest sense and encompass differences including, but not limited to, ethnicity, race, gender, religion, geographic location, socio-economic status, and disabilities. Applicants are strongly encouraged to adhere to the advancement of this principle both in project administration and in project content. Please refer to the review criteria under the 'Support for Diversity' section for specific suggestions on incorporating diversity into your proposal. Public Law 104-319 provides that “in carrying out programs of educational and cultural exchange in countries whose people do not fully enjoy freedom and democracy,” the Bureau “shall take appropriate steps to provide opportunities for participation in such programs to human rights and democracy leaders of such countries.” Public Law 106-113 requires that the governments of the countries described above do not have inappropriate influence in the selection process. Proposals should reflect advancement of these goals in their project contents, to the full extent deemed feasible.

IV.3d.3. Program Monitoring and Evaluation

Proposals must include a plan to monitor and evaluate the project's success, both as the activities unfold and at the end of the program. The Bureau recommends that your proposal include a draft survey questionnaire or other technique plus a description of a methodology to use to link outcomes to original project objectives. The Bureau expects that the recipient organization will track participants or partners and be able to respond to key evaluation questions, including satisfaction with the program, learning as a result of the program, changes in behavior as a result of the program, and effects of the program on institutions (institutions in which participants work or partner institutions). The evaluation plan should include indicators that measure gains in mutual understanding as well as substantive knowledge.

Successful monitoring and evaluation depend heavily on setting clear goals and outcomes at the outset of a program. Your evaluation plan should include a description of your project's objectives, your anticipated project outcomes, and how and when you intend to measure these outcomes (performance indicators). The more that outcomes are “smart” (specific, measurable, attainable, results-oriented, and placed in a reasonable time frame), the easier it will be to conduct the evaluation. You should also show how your project objectives link to the goals of the program described in this RFGP.

Your monitoring and evaluation plan should clearly distinguish between program outputs and outcomes. Outputs are products and services delivered, often stated as an amount. Output information is important to show the scope or size of project activities, but it cannot substitute for information about progress towards outcomes or the results achieved. Examples of outputs include the number of people trained or the number of seminars conducted. Outcomes, in contrast, represent specific results a project is intended to achieve and is usually measured as an extent of change. Findings on outputs and outcomes should both be reported, but the focus should be on outcomes.

We encourage you to assess the following four levels of outcomes, as they relate to the program goals set out in the RFGP (listed here in increasing order of importance):

1. Participant satisfaction with the program and exchange experience.

2. Participant learning, such as increased knowledge, aptitude, skills, and changed understanding and attitude. Learning includes both substantive (subject-specific) learning and mutual understanding.

3. Participant behavior, concrete actions to apply knowledge in work or community; greater participation and responsibility in civic organizations; interpretation and explanation of experiences and new knowledge gained; continued contacts between participants, community members, and others.

4. Institutional changes, such as increased collaboration and partnerships, policy reforms, new programming, and organizational improvements.

Please note: Consideration should be given to the appropriate timing of data collection for each level of outcome. For example, satisfaction is usually captured as a short-term outcome, whereas behavior and institutional changes are normally considered longer-term outcomes.

Overall, the quality of your monitoring and evaluation plan will be judged on how well it (1) Specifies intended outcomes; (2) gives clear descriptions of how each outcome will be measured; (3) identifies when particular outcomes will be measured; and (4) provides a clear description of the data collection strategies for each outcome (i.e., surveys, interviews, or focus groups). (Please note that evaluation plans that deal only with the first level of outcomes [satisfaction] will be deemed less competitive under the present evaluation criteria.)

Recipient organizations will be required to provide reports analyzing their evaluation findings to the Bureau in their regular program reports. All data collected, including survey responses and contact information, must be maintained for a minimum of three years and provided to the Bureau upon request.

IV.3e. Please take the following information into consideration when preparing the proposal budget:

IV.3e.1. Applicants must submit SF-424A—“Budget Information—Non-Construction Programs” along with a comprehensive budget for the entire project. There must be a summary budget as well as breakdowns reflecting both administrative and program budgets. Applicants may provide separate sub-budgets for each project component, phase, location, or activity to provide clarification.

IV.3e.2. Allowable costs for the project include the following:

(1) Travel. International and domestic airfare; visas; transit costs; ground transportation costs, except where these project activities will be paid directly by ECA, please see the POGI for further information. Please note that all air travel must be in compliance with the Fly America Act. There is no charge for J-1 visas for participants in Bureau-sponsored programs.

(2) Per Diem. For U.S.-based programming, organizations should use the published Federal per diem rates for individual U.S. cities. Domestic per diem rates may be accessed at: http://www.gsa.gov/Portal/gsa/ep/contentView.do?contentId=17943&contentType=GSA_BASIC.

(3) Please refer to the Solicitation Package for complete budget guidelines and formatting instructions.

Please refer to the Solicitation Package for complete budget guidelines and formatting instructions.

IV.3f. Submission Dates and Times

Application Deadline Date: April 12, 2010.

Methods of Submission:

Applications may be submitted in one of two ways:

(1) In hard-copy, via a nationally recognized overnight delivery service (i.e., Federal Express, UPS, or U.S. Postal Service Express Overnight Mail, etc.), or

(2) electronically through http://www.grants.gov.

Along with the Project Title, all applicants must enter the competition Reference Number (ECA/A-10-One-time-Comp. A) in Box 11 on the SF-424 contained in the mandatory Proposal Submission Instructions (PSI) of the solicitation document.

IV.3f.1 Submitting Printed Applications

Applications must be shipped no later than the above deadline. Delivery services used by applicants must have in-place, centralized shipping identification and tracking systems that may be accessed via the Internet and delivery people who are identifiable by commonly recognized uniforms and delivery vehicles. Proposals shipped on or before the above deadline but received at ECA more than seven days after the deadline will be ineligible for further consideration under this competition. Proposals shipped after the established deadlines are ineligible for consideration under this competition. ECA will not notify you upon receipt of application. It is each applicant's responsibility to ensure that each package is marked with a legible tracking number and to monitor/confirm delivery to ECA via the Internet. Delivery of proposal packages may not be made via local courier service or in person for this competition. Faxed documents will not be accepted at any time. Only proposals submitted as stated above will be considered.

Important note: When preparing your submission please make sure to include one extra copy of the completed SF-424 form and place it in an envelope addressed to “ECA/EX/PM”.

Applicants must also submit the “Executive Summary” and “Proposal Narrative” and budget sections of the proposal as well as any essential attachments, in Microsoft Word and/or Excel on a CD-ROM. The Bureau will provide these files electronically to the appropriate Public Affairs Sections at the U.S. Embassies for their review.

The original and seven copies of the application should be sent to: U.S. Department of State, Program Management Division, ECA-IIP/EX/PM, Ref.: ECA/A-10-One-time-Comp-A, SA-5, Floor 4, Department of State, 2200 C Street, NW., Washington, DC 20522-0504.

Applicants submitting hard-copy applications must also submit the “Executive Summary” and “Proposal Narrative” and “Budget” sections of the proposal in text (.txt) or Microsoft Word format on a PC-formatted disk. The Bureau will provide these files electronically to the appropriate Public Affairs Section(s) at the U.S. embassy(ies) for its(their) review.

IV.3f.2—Submitting Electronic Applications

Applicants have the option of submitting proposals electronically through Grants.gov (http://www.grants.gov). Complete solicitation packages are available at Grants.gov in the “Find” portion of the system.

Please follow the instructions available in the `Get Started' portion of the site (http://www.grants.gov/GetStarted).

Several of the steps in the Grants.gov registration process could take several weeks. Therefore, applicants should check with appropriate staff within their organizations immediately after reviewing this RFGP to confirm or determine their registration status with Grants.gov.

Once registered, the amount of time it can take to upload an application will vary depending on a variety of factors including the size of the application and the speed of your internet connection. In addition, validation of an electronic submission via Grants.gov can take up to two business days.

Therefore, we strongly recommend that you not wait until the application deadline to begin the submission process through Grants.gov.

The Grants.gov Web site includes extensive information on all phases/aspects of the Grants.gov process, including an lengthy section on frequently asked questions, located under the “For Applicants” section of the Web site. ECA strongly recommends that all potential applicants review thoroughly the Grants.gov Web site, well in advance of submitting a proposal through the Grants.gov system. ECA bears no responsibility for data errors resulting from transmission or conversion processes.

Direct all questions regarding Grants.gov registration and submission to:

Grants.gov Customer Support.

Contact Center Phone: 800-518-4726.

Business Hours: Monday-Friday, 7 a.m.-9 p.m. Eastern Time.

E-mail: support@grants.gov

Applicants have until midnight (12 a.m.), Washington, DC time of the closing date to ensure that their entire application has been uploaded to the Grants.gov site. There are no exceptions to the above deadline. Applications uploaded to the site after midnight of the application deadline date will be automatically rejected by the grants.gov system, and will be technically ineligible.

Please refer to the Grants.gov Web site, for definitions of various “application statuses” and the difference between a submission receipt and a submission validation. Applicants will receive a validation e-mail from grants.gov upon the successful submission of an application. Again, validation of an electronic submission via Grants.gov can take up to two business days. Therefore, we strongly recommend that you not wait until the application deadline to begin the submission process through Grants.gov. ECA will not notify you upon receipt of electronic applications.

It is the responsibility of all applicants submitting proposals via the Grants.gov web portal to ensure that proposals have been received by Grants.gov in their entirety, and ECA bears no responsibility for data errors resulting from transmission or conversion processes.

V. Application Review Information

V.1. Review Process

The Bureau will review all proposals for technical eligibility. Proposals will be deemed ineligible if they do not fully adhere to the guidelines stated herein and in the Solicitation Package. All eligible proposals will be reviewed by the program office, as well as the Public Diplomacy section of the relevant U.S. Embassy overseas, where appropriate. Eligible proposals will be subject to compliance with Federal and Bureau regulations and guidelines and forwarded to Bureau grant panels for advisory review. Proposals may also be reviewed by the Office of the Legal Adviser or by other Department elements. Final funding decisions are at the discretion of the Department of State's Assistant Secretary for Educational and Cultural Affairs. Final technical authority for assistance awards (grants) resides with the Bureau's Grants Officer.

Review Criteria

Technically eligible applications will be competitively reviewed according to the criteria stated below. These criteria are not rank ordered and all carry equal weight in the proposal evaluation:

1. Quality of the program idea and program planning: Objectives should be reasonable, feasible, and flexible. The proposal should clearly demonstrate how the institution will meet the program's objectives and plan. The proposed program should be creative and well developed, respond to the design outlined in the solicitation, and demonstrate originality. It should be clearly and accurately written, substantive, and with sufficient detail. The program plan should adhere to the program overview and guidelines described above. Please note: Proposals submitted by prior-year one-time grant recipients must include in their proposal submission a description of the specific elements that make this submission a new exchange program rather than a repetition or extension of what was funded by ECA under a prior-year award.

2. Ability to achieve program objectives: Objectives should be reasonable, feasible, and flexible. Proposals should clearly demonstrate how the institution will meet the program's objectives and plan.

3. Support of diversity: The proposal should demonstrate the recipient's commitment to promoting the awareness and understanding of diversity in participant selection and exchange program design and content.

4. Institutional capacity and track record: Proposed personnel and institutional resources should be adequate and appropriate to achieve the program goals. The proposal should demonstrate an institutional record, including solid programming and responsible fiscal management. The Bureau will consider the past performance, including compliance with all reporting requirements for past Bureau grants.

5. Program evaluation: The proposal should include a plan to evaluate the program's success, both as the activities unfold and at the end of the program. The proposal should include a draft survey questionnaire or other technique plus description of a methodology to use to link outcomes to original project objectives. Please see Section IV.3d.3. of this announcement for more information.

6. Cost-effectiveness and cost sharing: The applicant should demonstrate efficient use of Bureau funds. The overhead and administrative components of the proposal, including salaries and honoraria, should be kept as low as possible. All other items should be necessary and appropriate. The proposal should maximize cost-sharing through other private sector support as well as institutional direct funding contributions.

VI. Award Administration Information

VI.1a. Award Notices

Final awards cannot be made until funds have been appropriated by Congress, allocated and committed through internal Bureau procedures. Successful applicants will receive a Federal Assistance Award (FAA) from the Bureau's Grants Office. The FAA and the original grant proposal with subsequent modifications (if applicable) shall be the only binding authorizing document between the recipient and the U.S. Government. The FAA will be signed by an authorized Grants Officer, and mailed to the recipient's responsible officer identified in the application.

VI.1b The following additional requirements apply to this project, for assistance awards involving the Palestinian Authority, West Bank, and Gaza:

All awards made under this competition must be executed according to all relevant U.S. laws and policies regarding assistance to the Palestinian Authority, and to the West Bank and Gaza. Organizations must consult with relevant Public Affairs Offices before entering into any formal arrangements or agreements with Palestinian organizations or institutions.

Note: To assure that planning for the inclusion of the Palestinian Authority complies with requirements, please contact Bahareh Moradi, MoradiBX@state.gov, 202-632-6350.

VI.2 Administrative and National Policy Requirements

Terms and Conditions for the Administration of ECA agreements include the following:

Office of Management and Budget Circular A-122, “Cost Principles for Nonprofit Organizations”.

Office of Management and Budget Circular A-21, “Cost Principles for Educational Institutions”.

OMB Circular A-87, “Cost Principles for State, Local and Indian Governments”.

OMB Circular No. A-110 (Revised), Uniform Administrative Requirements for Grants and Agreements with Institutions of Higher Education, Hospitals, and other Nonprofit Organizations.

OMB Circular No. A-102, Uniform Administrative Requirements for Grants-in-Aid to State and Local Governments.

OMB Circular No. A-133, Audits of States, Local Government, and Non-profit Organizations.

Please refer to the following Web sites for additional information: http://www.whitehouse.gov/omb/grants. http://fa.statebuy.state.gov.

VI.3. Reporting Requirements

You must provide ECA with a hard copy original plus one copy of the following reports:

(1) A final program and financial report no more than 90 days after the expiration of the award;

(2) A concise, one-page final program report summarizing program outcomes no more than 90 days after the expiration of the award. This one-page report will be transmitted to OMB, and be made available to the public via OMB's USAspending.gov Web site—as part of ECA's Federal Funding Accountability and Transparency Act (FFATA) reporting requirements.

(3) A SF-PPR, “Performance Progress Report” Cover Sheet with all program reports.

(4) Interim program and financial reports after each program phase, as required in the Bureau grant agreement.

Award Recipients will be required to provide reports analyzing their evaluation findings to the Bureau in their regular project reports. (Please refer to IV. Application and Submission Instructions (IV.3.d.3) above for Program Monitoring and Evaluation information.

All data collected, including survey responses and contact information, must be maintained for a minimum of three years and provided to the Bureau upon request.

All reports must be sent to the ECA Grants Officer and ECA Program Officer listed in the final assistance award document.

VI.4. Optional Program Data Requirements

Award recipients will be required to maintain specific data on program participants and activities in an electronically accessible database format that can be shared with the Bureau as required. As a minimum, the data must include the following:

(1) Name, address, contact information and biographic sketch of all persons who travel internationally on funds provided by the agreement or who benefit from the award funding but do not travel.

(2) Itineraries of international and domestic travel, providing dates of travel and cities in which any exchange experiences take place. Final schedules for in-country and U.S. activities must be received by the ECA Program Officer at least three work days prior to the official opening of the activity.

VII. Agency Contacts

For questions about this announcement, contact:

1. Intensive English Language Program: Vincent Pickett, PickettVS@state.gov, 202-632-3243.

2. Capacity Building for Undergraduate Study Abroad: Contact: Bahareh Moradi, MoradiBX@state.gov, 202-632-6350; or Carina Klein, KleinCD@state.gov, 202-632-9460.

All correspondence with the Bureau concerning this RFGP should reference the above title and number ECA/A-10-One-time-Comp. A.

Please read the complete Federal Register announcement before sending inquiries or submitting proposals. Once the RFGP deadline has passed, Bureau staff may not discuss this competition with applicants until the proposal review process has been completed.

VIII. Other Information

Notice

The terms and conditions published in this RFGP are binding and may not be modified by any Bureau representative. Explanatory information provided by the Bureau that contradicts published language will not be binding. Issuance of the RFGP does not constitute an award commitment on the part of the Government. The Bureau reserves the right to reduce, revise, or increase proposal budgets in accordance with the needs of the program and the availability of funds. Awards made will be subject to periodic reporting and evaluation requirements per section VI.3 above.

Dated: February 24, 2010.
Maura M. Pally,
Acting Assistant Secretary for Educational and Cultural Affairs, Department of State.

[FR Doc. 2010-4561 Filed 3-3-10; 8:45 am]

BILLING CODE 4710-05-P